DEPARTMENT OF ENERGY

[FE Docket No. 14-001-CIC]

Cameron LNG, LLC; Application To Transfer Control of Long-Term Authorization To Export LNG to Free Trade Agreement Nations and Conditional Long-Term Authorization to Non-Free Trade Agreement Nations

AGENCY: Office of Fossil Energy, DOE.

ACTION: Notice of application.

SUMMARY: The Office of Fossil Energy (FE) of the Department of Energy (DOE) gives notice of receipt of an application (Application), filed on February 18, 2014, by Cameron LNG, LLC (Cameron), requesting to transfer indirect control of two export authorizations that it currently holds: an authorization to export liquefied natural gas (LNG) to any country with which the United States has a free trade agreement (FTA) that requires national treatment for trade in natural gas (FTA countries), and a conditional authorization to export LNG to countries with which the United States does not have a FTA that requires national treatment for trade in natural gas (non-FTA countries). Cameron seeks authorization to transfer its authorizations pursuant to 10 CFR 590.405, which states, in its entirety, that “authorizations by the Assistant Secretary to import or export natural gas shall not be transferable or assignable, unless specifically authorized by the Assistant Secretary.”

DATES: Protests, motions to intervene or notices of intervention, as applicable, requests for additional procedures, and written comments are to be filed using procedures detailed in the Public Comment Procedures section no later than 4:30 p.m., Eastern time, June 18, 2014.

ADDRESSES:

Electronic Filing by email: fergas@hq.doe.gov

Regular Mail

U.S. Department of Energy (FE-34), Office of Oil and Gas Global Security and Supply, Office of Fossil Energy, P.O. Box 44375, Washington, DC 20026-4375.

Hand Delivery or Private Delivery Services (e.g., FedEx, UPS, etc.)

U.S. Department of Energy (FE-34), Office of Oil and Gas Global Security and Supply, Office of Fossil Energy, Forrestal Building, Room 3E-042, 1000 Independence Avenue SW., Washington, DC 20585.

FOR FURTHER INFORMATION CONTACT:

Larine Moore or Benjamin Nussdorf, U.S. Department of Energy (FE-34) Office of Oil and Gas Global Security and Supply, Office of Fossil Energy, Forrestal Building, Room 3E-042, 1000 Independence Avenue SW., Washington, DC 20585, (202) 586-9478; (202) 586-9387.

Edward Myers, U.S. Department of Energy (GC-76) Office of the Assistant General Counsel for Electricity and Fossil Energy, Forrestal Building, 1000 Independence Ave. SW., Washington, DC 20585, (202) 586-9793.

SUPPLEMENTARY INFORMATION:

Background

Applicant. Cameron states that it is a Delaware limited liability company with its executive offices in Houston, Texas. Cameron further states that it is a wholly-owned subsidiary of Sempra LNG Holdings, which is a wholly owned subsidiary of Sempra Energy, a publicly traded corporation. Cameron constructed and operates the Cameron LNG Terminal, and has an interconnection with the Cameron Interstate Pipeline.

Procedural History. This Application concerns two export authorizations issued by DOE/FE to Cameron. First, on January 17, 2012, DOE/FE issued Order No. 3059, in which it authorized Cameron to export domestically produced LNG in a volume equivalent to approximately 620 billion cubic feet per year (Bcf/yr) of natural gas by vessel from the Cameron LNG Terminal to FTA countries for a period of 20 years, beginning on the earlier of the date of first cargo export or seven years from the date of authorization.¹

¹ Order Conditionally Granting Long-Term Multi-Contract Authorization to Export Liquefied Natural Gas by Vessel from the Cameron LNG Terminal to Free Trade Agreement Nations, Order No. 3059, Cameron LNG, LLC, FE Docket No. 11-145-LNG (2012).

Second, on February 11, 2014, DOE/FE issued Order No. 3391, in which it authorized Cameron to export domestically produced LNG in a volume equivalent to approximately 620 Bcf/yr of natural gas to non-FTA countries for a 20-year period, commencing on the earlier of the date of first cargo export or seven years from the date of the authorization.² As these volumes authorized for export from the Cameron LNG Terminal are the same, they are not additive.³

² Order Conditionally Granting Long-Term Multi-Contract Authorization to Export Liquefied Natural Gas by Vessel for the Cameron LNG Terminal in Cameron Parish, Louisiana, to Non-Free Trade Agreement Nations, Order No. 3391, Cameron LNG, LLC, FE Docket No. 11-162-LNG (2014).

³ Cameron LNG, LLC, FE Docket No. 11-162-LNG at 142 (Ordering Paragraph C).

Current Application

Pursuant to 10 CFR 590.405, Cameron seeks approval for the indirect transfer of control due to a change in its upstream ownership structure. Cameron states in its Application that Sempra LNG's interest in Cameron will transfer to Cameron LNG Holdings, which is a wholly owned subsidiary of Sempra LNG Holdings. Sempra LNG Holdings will issue additional membership holdings in Cameron LNG Holdings equal to a 49.8% interest in Cameron LNG Holdings.

Sempra LNG Holdings will convey a 16.6% interest to GDF Suez Cameron LNG Holding II Corporation, a Delaware corporation and a wholly owned, indirect subsidiary of GDF Suez. Sempra LNG Holdings will convey a 16.6% interest to Mitsui & Co. Cameron LNG Investment, Inc., a Delaware corporation and a wholly owned, indirect subsidiary of Mitsui, Inc. Sempra LNG Holdings will convey a 16.6% interest to Japan LNG Investment, LLC, a Delaware limited liability company indirectly owned by the Nippon Yusen Kabushiki Shipping Company through NYK Cameron LNG Holdings, Inc., (a Delaware corporation) and to Mitsubishi through Diamond Gas America Corporation (also a Delaware corporation). Cameron states that it will continue to own the authorizations; only the upstream ownership structure will change.

Public Interest Considerations

Cameron states that the proposed indirect transfer of control will not undermine the public interest, and that the export characteristics will be unchanged. Specifically, Cameron maintains that the proposed transfer of indirect control will not affect the amount of gas authorized for export, the scope of the project, the commencement date of the project, the source of the gas supply, the price, or other terms of the transaction. Further, Cameron states that DOE/FE has granted applications to transfer or assign import authorizations to customers of the authorization holder in other proceedings, which is the type of transfer that Cameron proposes.

Environmental Impact

Cameron states that no changes to the Cameron LNG Terminal would be required for the requested change in control. Therefore, Cameron maintains that a grant of its Application would not constitute a federal action significantly affecting the human environment within the meaning of the National Environmental Policy Act (NEPA), 42 U.S.C. 4321 et seq., nor would an environmental impact statement or environmental assessment be required.

DOE/FE Evaluation

Cameron's Application will be reviewed pursuant to section 3 of the NGA, as amended, and the authority contained in DOE Delegation Order No. 00-002.00N (July 11, 2013) and DOE Redelegation Order No. 00-002.04F (July 11, 2013). In reviewing this Application, DOE will consider the application, comments filed in response to this application, and as well as any other issues determined to be appropriate including conformity with the regulations at 10 CFR 590.405 and the Natural Gas Act at 15 U.S.C. 717b. Parties that may oppose this Application should comment in their responses on these issues.

NEPA requires DOE to give appropriate consideration to the environmental effects of its proposed decisions. No final decision will be issued in this proceeding until DOE has met its NEPA responsibilities, to the extent any are deemed to exist.

Public Comment Procedures

In response to this notice, any person may file a protest, comments, or a motion to intervene or notice of intervention, as applicable. Any person wishing to become a party to the proceeding must file a motion to intervene or notice of intervention, as applicable. The filing of comments or a protest with respect to the Application will not serve to make the commenter or protestant a party to the proceeding, although protests and comments received from persons who are not parties will be considered in determining the appropriate action to be taken on the Application. All protests, comments, motions to intervene, or notices of intervention must meet the requirements specified by the regulations in 10 CFR Part 590.

Filings may be submitted using one of the following methods: (1) emailing the filing to fergas@hq.doe.gov, with FE Docket No. 14-001-CIC in the title line; (2) mailing an original and three paper copies of the filing to the Office of Oil and Gas Global Security and Supply at the address listed in ADDRESSES; or (3) hand delivering an original and three paper copies of the filing to the Office of Oil and Gas Global Supply at the address listed in ADDRESSES. All filings must include a reference to FE Docket No. 14-001-CIC. PLEASE NOTE: If submitting a filing via email, please include all related documents and attachments (e.g., exhibits) in the original email correspondence. Please do not include any active hyperlinks or password protection in any of the documents or attachments related to the filing. All electronic filings submitted to DOE must follow these guidelines to ensure that all documents are filed in a timely manner. Any hardcopy filing submitted greater in length than 50 pages must also include, at the time of the filing, a digital copy on disk of the entire submission.

A decisional record on the Application will be developed through responses to this notice by parties, including the parties' written comments and replies thereto. Additional procedures will be used as necessary to achieve a complete understanding of the facts and issues. A party seeking intervention may request that additional procedures be provided, such as additional written comments, an oral presentation, a conference, or trial-type hearing. Any request to file additional written comments should explain why they are necessary. Any request for an oral presentation should identify the substantial question of fact, law, or policy at issue, show that it is material and relevant to a decision in the proceeding, and demonstrate why an oral presentation is needed. Any request for a conference should demonstrate why the conference would materially advance the proceeding. Any request for a trial-type hearing must show that there are factual issues genuinely in dispute that are relevant and material to a decision and that a trial-type hearing is necessary for a full and true disclosure of the facts.

If an additional procedure is scheduled, notice will be provided to all parties. If no party requests additional procedures, a final Opinion and Order may be issued based on the official record, including the Application and responses filed by parties pursuant to this notice, in accordance with 10 CFR 590.316.

The Application is available for inspection and copying in the Division of Natural Gas Regulatory Activities docket room, Room 3E-042, 1000 Independence Avenue SW., Washington, DC 20585. The docket room is open between the hours of 8:00 a.m. and 4:30 p.m., Monday through Friday, except Federal holidays. The Application and any filed protests, motions to intervene or notice of interventions, and comments will also be available electronically by going to the following DOE/FE Web address: http://www.fe.doe.gov/programs/gasregulation/index.html.

Issued in Washington, DC, on May 22, 2014.
John A. Anderson,
Director, Division of Natural Gas Regulatory Activities, Office of Oil and Gas Global Security and Supply, Office of Oil and Natural Gas.

[FR Doc. 2014-12455 Filed 5-28-14; 8:45 am]

BILLING CODE 6450-01-P